DEPARTMENT OF STATE

[Public Notice 3206]

Culturally Significant Objects Imported for Exhibition Determinations: “Science Under Sail: Russia's Great Voyages to America, 1728-1867”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Science Under Sail: Russia's Great Voyages to America, 1728-1867,” imported from abroad for temporary exhibition without profit within the United States, are of cultural significance. These objects are imported pursuant to loan agreements with foreign lenders. I also determine that the exhibition or display of the exhibit objects at the Anchorage Museum of History and Art, Anchorage, Alaska, from on or about May 4, 2000, to on or about October 22, 2000; the California Academy of Sciences, San Francisco, California, from early February to early May, 2001; and perhaps at other U.S. venues yet to be determined, is in the national interest.

FOR FURTHER INFORMATION CONTACT: For further information, including a list of exhibit objects, contact Lorie J. Nierenberg, Attorney-Adviser, Office of the Legal Adviser, U.S. Department of State (telephone: 202/619-6084). The address is U.S. Department of State, SA-44; 301-4th Street, S.W., Room 700, Washington, D.C. 20547-0001.

Dated: January 17, 2000.
William B. Bader,
Assistant Secretary for Educational and Cultural Affairs, U.S. Department of State.

[FR Doc. 00-1640 Filed 1-21-00; 8:45 am]

BILLING CODE 4710-08-P